DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's (RHS or Agency) intention to request an extension for a currently approved information collection in support of the programs under Direct Single Family Housing Loans and Grants.

DATES: Comments on this notice must be received by January 8, 2018 to be assured consideration.

FOR FURTHER INFORMATION CONTACT: Brooke Baumann, Branch Chief, Single Family Housing Direct Loan Division, 1400 Independence Avenue SW., Stop 0783, Washington, DC 20250-0783, Telephone: (202) 690-4250, Email: brooke.baumann@wdc.usda.gov.

SUPPLEMENTARY INFORMATION:

Title: Direct Single Family Housing Loans and Grants.

OMB Number: 0575-0172.

Expiration Date of Approval: March 31, 2018.

Type of Request: Extension of a currently approved information collection.

Abstract: Through its direct single family housing loan and grant programs (specifically the Sections 502 and 504 programs), RHS provides eligible applicants with financial assistance to own adequate but modest homes in rural areas. The financing and servicing is provided directly by RHS. The Section 502 direct loan program provides 100 percent loan financing to assist low- and very low-income applicants purchase modest homes in eligible rural areas by providing payment assistance to increase an applicant's repayment ability. The Section 504 loan program provides one percent interest rate loans to very low-income homeowners in eligible rural areas to repair, improve, or modernize their home or to remove health and safety hazards. The Section 504 grant program provides grants to elderly very low-income homeowners in eligible rural areas to remove health and safety hazards, or accessibility barriers from their home, often in conjunction with a Section 504 loan.

Applicants must provide the Agency with a uniform residential loan application and supporting documentation (e.g. verification of income, assets, liabilities, etc.) when applying for assistance. The information requested regarding the applicant and the property is vital in order for the Agency to make sound eligibility and underwriting decisions that comply with the laws and regulations that govern the programs. The information requested is comparable to that required by any public or private mortgage lender.

When servicing loans, RHS offers servicing options that are standard to the industry. In addition, RHS offers unique servicing options (e.g. payment subsidies and payment moratoriums) and is required to take unique servicing actions (e.g., review borrowers for their ability to refinance with private credit). Borrowers must provide the Agency with pertinent information when a servicing option/action is requested/required in order for the Agency to make sound servicing decisions that comply with the laws and regulations that govern the programs.

Estimate of Burden: Public burden for this collection of information is estimated to average .5 hours per response.

Respondents: Approximately 28,000 applicants seeking direct single family housing loans and grants from the Agency and approximately 276,800 existing borrowers who have active loans and grants under the Section 502 and 504 programs.

Estimated Number of Respondents: 673,560.

Estimated Number of Responses per Respondent: 1.

Estimated Total Number of Responses: 673,560.

Estimated Total Annual Burden on Respondents (hours): 327,622.

Copies of this information collection can be obtained from Jeanne Jacobs, Regulations and Paperwork Management Branch at (202) 692-0226.

Comments: Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Jeanne Jacobs, Regulations and Paperwork Management Branch, Support Services Division, U.S. Department of Agriculture, Rural Development, STOP 0742, 1400 Independence Ave. SW., Washington, DC 20250-0742. All responses to this notice will be summarized and included in the request for OMB approval. All comments will also become a matter of public record.

Dated: October 25, 2017.
Bryan Hooper,
Acting Administrator, Rural Housing Service.

[FR Doc. 2017-24245 Filed 11-7-17; 8:45 am]

BILLING CODE 3410-XV-P